POSTAL RATE COMMISSION

[Order No. 1353]

Petition Seeking a Proceeding

AGENCY: Postal Rate Commission.

ACTION: Notice and order on petition seeking a proceeding.

SUMMARY: A petition has been filed seeking review of the jurisdictional status of numerous services offered by the Postal Service, such as First Class Phone Cards and Returns@ease. The petition also seeks, for services deemed non-jurisdictional, development of accounting and reporting rules. Although formal action on the petition has been deferred pending completion of a related Postal Service assessment, the Commission is soliciting comments from the public.

DATES: Submit comments by January 30, 2003.

ADDRESSES: Submit comments electronically via the Commission's Filing Online system, which may be accessed at http://www.prc.gov. See SUPPLEMENTARY INFORMATION for further filing information.

FOR FURTHER INFORMATION CONTACT: Stephen L. Sharfman, General Counsel, 202-789-6820.

SUPPLEMENTARY INFORMATION: On October 15, 2002, Consumer Action (CA), a nonprofit membership-based organization based in San Francisco, California, filed a petition requesting the Commission to initiate proceedings concerning fourteen (14) services (or products) offered by the Postal Service to the public.¹ In support of its petition, CA incorporates by reference a letter it co-authored with the Office of the Consumer Advocate (OCA) that provides the petitioner's legal argument and the substantive and procedural relief requested.² In their joint letter, CA and OCA request the Commission to institute a proceeding: (1) To review and determine whether the enumerated services are subject to the Commission's rate and classification jurisdiction under §§ 3622 and 3623 of the Postal Reorganization Act; and (2) if some services are not subject to the Commission's jurisdiction, to establish new accounting and reporting rules to ensure a complete separation of “non-jurisdictional (domestic)” costs and revenues from those of jurisdictional services.³

¹ Petition of Consumer Action Requesting that the Commission Institute Proceedings to (1) Review the Jurisdictional Status of Fourteen Specified Services and (2) Establish Rules to Require a Full Accounting of the Costs and Revenues of Non-Jurisdictional Services, October 15, 2002 (Petition).

² Id. at 3. The joint letter is attached to the petition.

³ See Joint Letter at 4; see also Petition at 1. The fourteen services identified are: Liberty Cash, Sure Money, Online Payment Services, including eBillPay, Pay@Delivery, and USPS Send Money, ePayments, NetPost CardStore, NetPost Certified Mail, Electronic Postmark, Unisite Antenna Program, Returns@Ease, Mall Package Shipment Program, First Class Phone Cards, and Retail Merchandise. CA and OCA also reserve the right to supplement the list should other such services come to light.

Reasons for Deferring Formal Action

During the Commission's consideration of the petition, the Chairman received a letter from the Chairman of the Board of Governors noting, inter alia, that the petition had been filed, that the Board viewed its assertions very seriously, and that the Postal Service currently is conducting an evaluation of what is characterized as its “non-postal service offerings.” ⁴ Chairman Rider expressed the hope that, prior to addressing the request for a formal proceeding, the Commission would afford the Postal Service an opportunity to comment on the issues and further that it first be able to complete its internal review.⁵ It is anticipated that the review will be completed by early January 2003.⁶

⁴ Letter to the Honorable George A. Omas from the Honorable Robert F. Rider, Chairman of the Board of Governors, November 14, 2002, at 1 (Rider Letter). This letter and Chairman Omas's reply are posted on the Commission's Web site.

⁵ Rider Letter at 2.

⁶ Ibid.

The petition and all related correspondence are available on the Commission's Web site, http://www.prc.gov. On the Commission's home page, this material can be accessed by clicking on “Contents” and then either on “Docketed Cases & Matters,” or on “Pending Cases & Matters.” It can be found under “Other Matters,” where it is listed separately.

Taking into consideration both the representations in Chairman Rider's letter and the lack of any statutorily imposed deadlines, the Commission finds it appropriate to accede to the request to defer action on the petition pending completion of the Postal Service's internal review. The brief deferral should not prejudice the petitioner. Moreover, the scope of the issues raised may be significantly clarified by the results of the Postal Service's review, which, it is indicated, will “bear substantially on the representations in the petition.” ⁷

⁷ Id. at 1.

Comments

In the interim, interested persons may review the petition and advise the Commission on the most appropriate way to proceed. Comments are due by no later than January 30, 2003.

Ordering Paragraphs

It is ordered:

1. Notice is hereby given of the petition of Consumer Action requesting that the Commission institute proceedings to (1) review the jurisdictional status of 14 specified services and (2) establish rules to require a full accounting of the costs and revenues of non-jurisdictional services, filed October 15, 2002.

2. Comments from interested persons concerning how the Commission should proceed with the petition are due no later than January 30, 2003.

3. The Secretary shall arrange for publication of this notice in the Federal Register.

Additional Note on Filing Procedure

The comment period on the joint petition coincides with a formal transition from rules of practice based on traditional hard copy filing, with an electronic filing option, to mandatory use of the Commission's Filing Online system, which can be accessed via http://www.prc.gov. See Order No. 1349 in Docket No. RM2002-1 (67 FR 67552), recently-adopted 39 CFR § 3001.9. A User's Guide to the new filing system is also available on the Commission's Web site. The effective date of the switch to mandatory electronic filing is January 7, 2003. Prior to that date, those wishing to comment on the petition may file either hard copy or electronic submissions; on or after January 7, 2003, they should submit comments electronically.

By the Commission.
Issued November 21, 2002.
Steven W. Williams,
Secretary.

[FR Doc. 02-30539 Filed 12-2-02; 8:45 am]

BILLING CODE 7710-FW-P